DEPARTMENT OF TRANSPORTATION

Federal Highway Administration

[Docket No. FHWA-2009-0103]

Agency Information Collection Activities: Notice of Correction to a Previously Approved Information Collection Titled: Federal Highway Administration (FHWA) State Reports for American Recovery and Reinvestment Act (RECOVERY ACT)

AGENCY: Federal Highway Administration (FHWA), Department of Transportation (DOT).

ACTION: Notice of correction.

SUMMARY: The FHWA is advising the public about a correction to a previously approved request for information collection that is summarized below under SUPPLEMENTARY INFORMATION. The correction concerns executive compensation reporting requirements under the American Recovery and Reinvestment Act of 2009 (Pub. L. 111-5, February 17, 2009) (Recovery Act). We published a Federal Register Notice with a 30-day public comment period on this information collection on July 30, 2009. This correction does not increase the information collection burden. No revision to the approved information collection request is needed.

DATES: This notice is effective immediately.

ADDRESSES: You may submit comments identified by DOT Docket ID Number FHWA-2009-0103 by any of the following methods:

Web site: For access to the docket to read background documents or comments received go to the Federal eRulemaking Portal: http://www.regulations.gov. Follow the online instructions for submitting comments.

Fax: 1-202-493-2251.

Mail: Docket Management Facility, U.S. Department of Transportation, West Building Ground Floor, Room W12-140, 1200 New Jersey Avenue, SE., Washington, DC 20590-0001.

Hand Delivery or Courier: U.S. Department of Transportation, West Building Ground Floor, Room W12-140, 1200 New Jersey Avenue, SE., Washington, DC 20590, between 9 a.m. and 5 p.m. ET, Monday through Friday, except Federal holidays.

FOR FURTHER INFORMATION CONTACT: Michael Dougherty, 202-366-9474, Office of Policy and Governmental Affairs, HPTS, Federal Highway Administration, Department of Transportation, 1200 New Jersey Avenue, SE., Washington, DC 20590, between 7:30 a.m. to 4:30 p.m., Monday through Friday, except Federal holidays.

SUPPLEMENTARY INFORMATION: Title: Federal Highway Administration (FHWA) State Reports for American Recovery and Reinvestment Act (RECOVERY ACT), OMB Control # 2125-0623.

Background: The Recovery Act provides the State Departments of Transportation and Federal Lands Agencies with $27.5 billion for highway infrastructure investment. With these funds also comes an increased level of data reporting with the stated goal of improving transparency and accountability at all levels of government. According to President Obama “Every American will be able to hold Washington accountable for these decisions by going online to see how and where their tax dollars are being spent.” The Federal Highway Administration (FHWA) in concert with the Office of the Secretary of Transportation (OST) and the other modes within the U.S. Department of Transportation (DOT) will be taking the appropriate steps to ensure that this accountability and transparency is in place for all infrastructure investments.

The July 30, 2009, notice incorrectly advised that States are required to provide information on the five most highly compensated officers of States' vendors for all Recovery Act projects. The executive compensation reporting requirement, contained in section 1512(c)(4) of the Recovery Act, does not apply to vendors. The executive compensation reporting requirement does apply to States, as prime recipients under the Recovery Act's Highway Infrastructure Investment appropriation. The requirement also applies to any sub-recipients of the States. The terms “prime recipient”, “sub-recipient”, “vendor”, and “compensation” are defined, and further information is provided on the executive compensation reporting requirement, in guidance issued by the President's Office of Management and Budget titled “Implementing Guidance for Reports on Use of Funds Pursuant to the American Recovery and Reinvestment Act of 2009” (June 22, 2009) and Supplements 1 and 2 thereto. These documents are available at http://www.whitehouse.gov/omb/memoranda_default/.

Authority: The Paperwork Reduction Act of 1995; 44 U.S.C. Chapter 35, as amended; and 49 CFR 1.48.

Issued on: October 6, 2009.
Tina Campbell,
Acting Chief, Management Programs and Analysis Division.

[FR Doc. E9-24916 Filed 10-15-09; 8:45 am]

BILLING CODE 4910-22-P